DEPARTMENT OF COMMERCE

National Oceanic and Atmospheric Administration

50 CFR Part 648

[Docket No. 230425-0113]

RTID 0648-XC579

Magnuson-Stevens Act Provisions; Fisheries of the Northeastern United States; Northeast Multispecies Fishery; Approval of 2023 and 2024 Sector Operations Plans and Allocation of 2023 Northeast Multispecies Annual Catch Entitlements

AGENCY: National Marine Fisheries Service (NMFS), National Oceanic and Atmospheric Administration (NOAA), Commerce.

ACTION: Final rule.

SUMMARY: This final rule approves sector operations plans and contracts, including 18 regulatory exemptions for fishing years 2023 and 2024. This final rule also allocates Northeast multispecies annual catch entitlements to approved groundfish sectors for fishing year 2023; this includes default specifications for nine stocks. This action is intended to allow limited access permit holders to continue to operate sectors, as authorized under the Northeast Multispecies Fishery Management Plan, and to exempt sectors from certain effort control regulations to improve the efficiency and economics of sector vessels. Approval of sector operations plans and contracts is necessary to allocate annual catch entitlements to the sectors in order for sectors to operate.

DATES: Sector operations plans and regulatory exemptions are effective May 1, 2023, through April 30, 2025. Northeast multispecies annual catch entitlements for sectors are effective May 1, 2023, through April 30, 2024. Default catch limits are effective May 1, 2023, through October 31, 2023, or until the final rule for Framework 65 is implemented, if that final rule is implemented prior to October 31, 2023. If Framework 65 is not implemented on or before October 31, 2023, all fishing for these stocks would be prohibited beginning November 1, 2023.

ADDRESSES: Copies of each sector's operations plan and contract are available from the NMFS Greater Atlantic Regional Fisheries Office (GARFO): Contact Samantha Tolken at Samantha.Tolken@noaa.gov. These documents are also accessible via the GARFO website. To view these documents and the Federal Register documents referenced in this rule, you can visit: https://www.fisheries.noaa.gov/management-plan/northeast-multispecies-management-plan.

FOR FURTHER INFORMATION CONTACT: Samantha Tolken, Fishery Management Specialist, (978) 675-2176.

SUPPLEMENTARY INFORMATION:

Background

The Northeast Multispecies Fishery Management Plan (FMP) defines a sector as a group of persons holding limited access Northeast multispecies permits that has voluntarily entered into a contract and agree to certain fishing restrictions for a specified period of time, and that has been granted a portion of the total allowable catch (TAC) in order to achieve objectives consistent with applicable FMP goals and objectives. A sector must be comprised of at least three Northeast multispecies permits issued to at least three different persons, none of whom have any common ownership interest in the permits, vessels, or businesses associated with the permits issued to the other two or more persons in that sector. Sectors are self-selecting, meaning each sector can choose its members.

The Northeast multispecies sector management system allocates a portion of the Northeast multispecies stocks to each sector. These annual sector allocations are known as annual catch entitlements (ACE) and are based on the collective fishing history of a sector's members. Sectors may receive allocations of large-mesh Northeast multispecies stocks with the exception of Atlantic halibut, windowpane flounder, Atlantic wolffish, and ocean pout, which are non-allocated species managed under separate effort controls. ACEs are portions of a stock's annual catch limit (ACL) available to commercial Northeast multispecies vessels. A sector determines how to harvest its ACE.

Because sectors elect to receive an allocation under a quota-based system, the FMP grants sector vessels several universal exemptions (i.e., exemptions from certain Northeast multispecies regulations that are granted to all sectors) from the FMP's effort controls. These universal exemptions apply to: Trip limits on allocated stocks; Northeast multispecies days-at-sea (DAS) restrictions; the requirement to use a 6.5-inch (16.5-cm) mesh codend when fishing with selective gear on Georges Bank (GB); and portions of the Gulf of Maine (GOM) Cod Protection Closures. The FMP prohibits sectors from requesting exemptions from permitting restrictions, gear restrictions designed to minimize habitat impacts, and most reporting requirements.

In addition to the approved sectors, there are several state-operated permit banks, which receive allocations based on the history of the permits owned by the states. The final rule implementing Amendment 17 to the FMP allowed a state-operated permit bank to receive an allocation without needing to comply with the administrative and procedural requirements for sectors (77 FR 16942; March 23, 2012). Instead, permit banks are required to submit a list of participating permits to us, as specified in the permit bank's Memorandum of Agreement, to determine the ACE allocated to the permit bank. These allocations may be leased to fishermen enrolled in sectors. State-operated permit banks are no longer approved through the sector approval process, but current state-operated permit banks contribute to the total allocation under the sector system.

We received operations plans and preliminary contracts for fishing years 2023 and 2024 from 15 sectors. One additional sector that was active in fishing year 2022 submitted an initial operations plan, but later notified us that it does not intend to operate in fishing year 2023. This sector did not submit a final operations plan for approval. The operations plans for the 15 sectors included 18 exemptions previously requested by sectors, and approved by NMFS, in fishing years 2021 and 2022. These sectors did not request any new regulatory exemptions. We have determined that the 15 sector operations plans and contracts that we received, and that the 18 previously approved regulatory exemptions requested, are consistent with the FMP's goals and objectives and meet sector requirements outlined in the regulations at 50 CFR 648.87. Consequently, in this final rule we are approving the 15 sector operations plans, as well as the 18 previously approved regulatory exemptions requested. No new regulatory exemptions are approved as none were requested for fishing year 2023. Copies of the operations plans and contracts, and the environmental assessment (EA), are available at: http://www.regulations.gov and from NMFS (see ADDRESSES).

Catch Limits for Fishing Year 2023

Previously Established Catch Limits

Last year, Framework Adjustment 63 (Framework 63) (87 FR 42375; July 15, 2022) set fishing years 2022-2023 catch limits for two groundfish stocks: GOM cod and GB yellowtail flounder. Additionally, Framework 61 (86 FR 33191; July 9, 2021) set fishing years 2021-2023 catch limits for nine groundfish stocks: GB winter flounder; GOM Winter flounder; Southern New England/Mid-Atlantic (SNE/MA) winter flounder; redfish; northern windowpane flounder; southern windowpane flounder; ocean pout; Atlantic halibut; and wolffish. Frameworks 61 and 63 did not, however, specify a 2023 catch limit for nine stocks: GB cod; GB haddock; GOM haddock; SNE/MA yellowtail flounder; Cape Cod/GOM yellowtail flounder; American plaice; witch flounder; white hake; and pollock. Framework 65 would set catch limits for these nine stocks (and seven other stocks). However, Framework 65 will not be in place by the May 1, 2023, start of the fishing year. To prevent disruption to the groundfish fishery while Framework 65 is finalized, this final rule announces default catch limits that will be in effect for these nine stocks until Framework 65 is finalized and goes into effect.

As a result, the sector and common pool allocations in this rule are based on the 2023 catch limits set in Framework 61, Framework 63 or default catch limits that will be effective on May 1, 2023, and preliminary 2023 fishing year rosters (Table 1). If we approve Framework 65, the 2023 catch limits for 16 (out of 20) groundfish stocks announced in this rule will change when Framework 65 measures become effective.

Default Catch Limits

This rule announces default catch limits for GB cod; GB haddock; GOM haddock; SNE/MA yellowtail flounder; Cape Cod/GOM yellowtail flounder; American plaice; witch flounder; white hake; and pollock (Table 1). These stocks do not already have a catch limit in place for fishing year 2023. The groundfish regulations implement default catch limits for any stock for which final specifications are not in place by the beginning of the fishing year on May 1. The FMP's default specifications provision in the regulations sets catch limits at 75 percent of the previous year's (2022) catch limits, except in instances where the default catch limit would exceed the Council's recommendation for the final specifications. The default catch limits are effective from May 1 through October 31, or until the final rule for Framework 65 is implemented if that final rule is implemented prior to October 31. We are announcing these default specifications to comply with the FMP as set out in these regulations and to minimize impacts on the fishery that would occur if no catch limits are specified. If Framework 65 is not implemented on or before October 31, all fishing for these stocks would be prohibited beginning November 1.

Table 1—Northeast Multispecies Catch Limits for 2023
Stock | Total U.S. ABC (mt) | Commercial groundfish sub-ACL (mt)
GB Cod # | 257 | 182.9
GOM Cod * | 551 | 269.9
GB Haddock # | 11,901 | 11,079.8
GOM Haddock # | 1,936 | 1,148.6
GB Yellowtail Flounder * | 122 | 97.0
SNE/MA Yellowtail Flounder # | 17 | 11.7
CC/GOM Yellowtail Flounder # | 617 | 518.9
American Plaice # | 2,119 | 1,972.6
Witch Flounder # | 1,112 | 988.0
GB Winter Flounder * | 608 | 563.2
GOM Winter Flounder * | 497 | 280.9
SNE/MA Winter Flounder * | 456 | 288.1
Redfish * | 9,967 | 9,468.7
White Hake # | 1,587 | 1,492.6
Pollock # | 12,609 | 10,601.0
N. Windowpane Flounder * | 160 | 107.9
S. Windowpane Flounder * | 384 | 42.9
Ocean Pout * | 87 | 49.8
Atlantic Halibut * | 101 | 73.4
Atlantic Wolffish * | 92 | 85.6
* These catch limits are based on fishing year 2023 Frameworks 61 or 63 and will be replaced when the final rule for Framework 65 becomes effective, if approved.
# These catch limits are based on default specifications and will be replaced when the final rule for Framework 65 becomes effective, if approved. If Framework 65 is not implemented on or before October 31, all fishing for these stocks would be prohibited beginning November 1.

Sector Allocations

This rule allocates ACE to sectors based on the preliminary fishing year 2023 sector rosters and the 2023 catch limits established in Framework 61, Framework 63, or default specifications, as shown in Table 1. Any permits that change ownership after the enrollment deadline established by the Regional Administrator (April 3 for fishing year 2023) retain the ability to join a sector through April 30, 2023. All permit holders who have joined a sector for fishing year 2023 have until April 30, 2023, to withdraw and elect to fish in the common pool, although sectors may specify a more restrictive withdrawal date for their members. As a result, the total permits enrolled in sectors for fishing year 2023 could change from the preliminary rosters, although such changes are expected to be minimal based on past fishing years. For fishing year 2024, we will set similar roster deadlines, notify permit holders of the fishing year 2024 deadlines, and allow permit holders to change sectors separate from the annual sector operations plans approval process.

We calculate a sector's allocation for each stock by summing its members' potential sector contributions (PSC) for a stock and then multiplying that total percentage by the available commercial sub-ACL for that stock. Table 2 shows the preliminary total PSCs for each sector for fishing year 2023. Tables 3 and 4 show the initial allocations that each sector is allocated, in pounds and metric tons, respectively, for fishing year 2023 based on their preliminary fishing year 2023 rosters and the fishing year 2023 catch limits established in Framework 61, Framework 63, or default specifications. At the start of the 2023 fishing year, we provide final allocations, to the nearest pound, to each sector based on their final May 1 rosters. We use these final allocations, along with later adjustments for ACE transfers, reductions for overages, or increases for carryover from fishing year 2022, to monitor sector catch. We have included the preliminary common pool sub-ACLs in tables 2 through 4 for comparison.

These tables do not represent the final allocations for the 2023 fishing year. One additional sector, Northeast Fishery Sector VII (NEFS 7), that was active in fishing year 2022, did not submit a final operations plan and will not operate in fishing year 2023. As a result, NEFS 7 is not included in tables 2 through 4. We expect the permits initially enrolled in NEFS 7 for fishing year 2023 to enroll in a different sector or join the common pool for fishing year 2023. ACE attributable to those permits will be allocated to whichever sector(s) those permits enroll in for 2023, or to the common pool.

We do not assign each permit separate PSCs for Eastern GB cod or Eastern GB haddock; instead, we assign each permit a PSC for the GB cod stock and GB haddock stock. Each sector's GB cod and GB haddock allocations are then divided into an Eastern ACE and a Western ACE, based on each sector's percentage of the GB cod and GB haddock ACLs. For example, if a sector is allocated 4 percent of the GB cod ACL and 6 percent of the GB haddock ACL, the sector is allocated 4 percent of the commercial Eastern U.S./Canada Area GB cod TAC and 6 percent of the commercial Eastern U.S./Canada Area GB haddock TAC as its Eastern GB cod and haddock ACEs. These amounts are then subtracted from the sector's overall GB cod and haddock allocations to determine its Western GB cod and haddock ACEs. A sector may only harvest its Eastern GB cod and haddock ACEs in the Eastern U.S./Canada Area, but may “convert,” or transfer, its Eastern GB cod or haddock allocation into Western GB allocation and fish that converted ACE outside the Eastern GB area.

We expect to finalize 2022 catch information in summer 2023. We allow sectors to trade fishing year 2022 ACE for 2 weeks upon our completion of year-end catch accounting to reduce or eliminate any fishing year 2022 overages. If necessary, we reduce any sector's fishing year 2023 allocation to account for a remaining overage in fishing year 2022. Each year of the operations plans, we notify the Council and sector managers of this deadline in writing and announce our final ACE determination on our website at: https://www.greateratlantic.fisheries.noaa.gov/ro/fso/reports/h/groundfish_catch_accounting.

BILLING CODE 3510-22-P

BILLING CODE 3510-22-C

Sector Operations Plans and Contracts

We are approving 15 sector operations plans and contracts for fishing years 2023 and 2024. All 15 sectors were active in fishing years 2021 and 2022. One sector, NEFS 7, submitted an initial operations plan, but later notified us that they would not be operating in fishing year 2023, and did not submit a final operations plan for approval. In order to approve a sector's operations plan for fishing years 2023 and 2024, we consider whether a sector's plan is consistent with regulatory requirements and FMP objectives, and whether it has been compliant with reporting requirements from previous years, including the year-end reporting requirements found at § 648.87(b)(1)(v). Approved operations plans contain the rules under which each sector will fish, and also provide the legal contract that binds each member to the sector for the length of the sector's operations plan. Each sector's operations plan, and each sector's members, must comply with the regulations governing sectors, found at § 648.87. In addition, each sector must conduct fishing activities as detailed in its approved operations plan.

Participating vessels are required to comply with all pertinent Federal fishing regulations, except as specifically exempted in the letter of authorization (LOA) issued by the Regional Administrator, which details any approved sector exemptions from the regulations. If, during a fishing year, or between fishing years 2023 and 2024, a sector requests an exemption that we have already granted, or proposes a change to administrative provisions, we may amend the sector operations plans. Should any such amendments require modifications to LOAs, we will include these changes in updated LOAs and provide them to the appropriate sectors.

We may revoke exemptions in-season if: We determine that the exemption jeopardizes management measures, FMP objectives, or rebuilding efforts; the exemption results in unforeseen negative impacts on other managed fish stocks, habitat, or protected resources; the exemption causes enforcement concerns; catch from trips using the exemption cannot be adequately monitored; or a sector is not meeting certain administrative or operational requirements. If it becomes necessary to revoke an exemption, we will do so through a process consistent with the existing regulations or in a separate rulemaking action, as appropriate.

Each sector is required to ensure that it does not exceed its ACE during the fishing year. Sector vessels are required to retain all legal-sized allocated Northeast multispecies stocks, unless a sector is granted an exemption allowing its member vessels to discard legal-sized unmarketable fish at sea. Catch (defined as landings and discards) of all allocated Northeast multispecies stocks by a sector's vessels count against the sector's allocation. Groundfish catch from a sector trip targeting non-groundfish species will be deducted from the sector's ACE because these are groundfish trips using gear capable of catching groundfish. Catch from a non-sector trip in an exempted fishery does not count against a sector's allocation and is assigned to a separate ACL sub-component to account for any groundfish bycatch that occurs in non-groundfish fisheries.

Each sector operations plan submitted for fishing years 2023 and 2024 states that the sector may withhold an initial reserve from the sector's ACE sub-allocation to each individual member to prevent the sector from exceeding its ACE. A sector and sector members can be held jointly and severally liable for ACE overages, discarding legal-sized fish, and/or misreporting catch (landings or discards). Each sector contract provides procedures for sector enforcement of its rules, explains sector monitoring and reporting requirements, provides sector managers with the authority to issue stop fishing orders to sector members who violate provisions of the operations plan and contract, and presents a schedule of penalties that managers may levy on members for sector plan violations.

Sectors are required to monitor their allocations and catch. To help ensure that a sector does not exceed its ACE, each sector operations plan explains sector monitoring and reporting requirements, including a requirement to submit weekly catch reports to us. If a sector reaches an ACE threshold (specified in the operations plan), the sector must provide us with sector allocation usage reports on a daily basis. Once a sector's allocation for a particular stock is caught, that sector is required to cease all sector fishing operations in that stock area until it acquires more ACE, likely by an ACE transfer between sectors. Within 60 days of when we complete year-end catch accounting, each sector is required to submit an annual report detailing the sector's catch (landings and discards), sector enforcement actions, and pertinent information necessary to evaluate the biological, economic, and social impacts of each sector.

Industry-Funded Monitoring Programs

Sectors are responsible for developing and implementing a monitoring program that must be approved by NMFS as both sufficient to monitor catch, discards, and use of ACE, and consistent with the sector monitoring program goals and objectives. Amendment 23 (87 FR 75852; December 9, 2022) replaced the previous method for determining the at-sea monitoring (ASM) coverage target with a fixed coverage target as a percentage of trips, dependent on Federal funding. Each year, NMFS will evaluate available Federal funding. NMFS will determine how much Federal funding is available for the groundfish sector monitoring program and then use that in conjunction with other available information (e.g., recent monitoring costs, estimate of the number of vessels choosing electronic monitoring (EM)) to calculate the human ASM coverage target between 40 and 100 percent for the coming fishing year. This funding-based determination replaces the former annual process for determining the ASM coverage target for the sector monitoring program.

For fishing year 2023, sector vessels may choose to use ASM, the audit model EM, or the maximized retention EM program to meet monitoring requirements, provided that the sector has a corresponding monitoring program approved as part of its operations plan. On March 16, 2023, we announced a preliminary monitoring coverage level of 90 percent of all sector groundfish trips for the 2023 fishing year. The preliminary coverage level was announced to facilitate preparations by industry members and monitoring companies ahead of the 2023 fishing year. The final ASM coverage level will be announced when the ASM spend plan is approved. Vessels that choose to use ASM to meet monitoring requirements will be assigned monitors based on the target coverage level set for all sector groundfish trips. Vessels that choose to use EM to meet monitoring coverage requirements must use cameras and adhere to catch handling protocols as described in their vessel monitoring plans for all groundfish trips. Only a subset of the submitted trips will be selected for review to monitor groundfish discards for catch accounting. A subset of the selected EM trips will also undergo editing by NMFS to monitor the third-party service provider's performance. The vessel owner or operator and the third-party service provider must provide the EM data for any given trip to NMFS, and its authorized officers and designees, upon request including, but not limited to, trips selected for NMFS review. For fishing year 2023, the audit model EM video footage review rate will be calculated for each active EM vessel based on each vessel's performance in 2022. The minimum possible EM video footage review rate will be 35 percent of sector trips for audit model vessels. The EM video footage review rate remains at 50 percent for all maximized retention EM vessels in fishing year 2023. Vessels that are new to EM will have a 50-percent video footage review rate in 2023 to allow more opportunities for feedback on their catch handling and reporting performance.

The operations plans submitted by sectors include industry-funded monitoring plans for fishing year 2023. As in previous years, we gave sectors the option to design their own monitoring program(s) in compliance with regulations or elect to adopt the NMFS-designed ASM and/or EM audit model and maximized retention program(s). In the event that we cannot approve a proposed monitoring program, we asked all sectors to include an option to select a current NMFS-designed monitoring program as a fail-safe.

All active sectors submitted an ASM plan as part of their operations plans. Sectors that operate only as permit banks, and explicitly prohibit fishing in their operations plans, are not required to include provisions for an ASM program. Similar to previous years, some sectors chose to use the NMFS-designed ASM program while others proposed programs of their own design. The NMFS-designed ASM program is the same program that we have used in previous fishing years. Sector-designed ASM programs for fishing years 2023 and 2024 were materially the same as those approved in past years. We reviewed all sector-proposed ASM programs for consistency with ASM requirements.

Sustainable Harvest Sectors 1, 2, and 3; the GB Cod Fixed Gear Sector; the Maine Coast Community Sector; and NEFS 5, 10, 11, and 13 will use the NMFS-designed ASM program. NEFS 2, 6, 8, and 12 will use a sector-designed ASM program, which states that they will: Contract with a NMFS-approved ASM provider; meet the specified coverage level; and utilize the Pre-Trip Notification System for random selection of monitored trips and notification to providers. These ASM programs also include additional protocols for ASM coverage waivers, incident reporting, and safety requirements for their sector managers and members. We are approving these programs because they are consistent with the goals and objectives of ASM and regulatory requirements.

Thirteen sectors also submitted an EM plan as part of their operations plans. Sustainable Harvest Sectors 1, 2, and 3; the GB Cod Fixed Gear Sector; the Maine Coast Community Sector; and NEFS 2, 5, 6, 8, 10, 11, 12, and 13 included the NMFS-designed audit model EM program in their operations plans. Sustainable Harvest Sectors 1, 2, and 3; the GB Cod Fixed Gear Sector; the Maine Coast Community Sector; and NEFS 2, 6, 8, 10, 12, and 13 also included the NMFS-designed maximized retention EM program in their operations plans.

Approved Exemptions for Fishing Years 2023 and 2024

We are granting exemptions from the following requirements for fishing years 2023 and 2024, all of which have been requested and granted in previous years:

(1) 120-day block out of the fishery required for Day gillnet vessels;

(2) 20-day spawning block out of the fishery required for all vessels;

(3) Limits on the number of gillnets for Day gillnet vessels outside the GOM;

(4) Prohibition on a vessel hauling another vessel's gillnet gear;

(5) Limits on the number of gillnets that may be hauled on GB when fishing under a Northeast multispecies/monkfish DAS;

(6) Limits on the number of hooks that may be fished;

(7) DAS Leasing Program length and horsepower restrictions;

(8) Prohibition on discarding;

(9) Gear requirements in the Eastern U.S./Canada Management Area;

(10) Prohibition on a vessel hauling another vessel's hook gear;

(11) The requirement to declare an intent to fish in the Eastern U.S./Canada Special Access Program (SAP) and the Closed Area (CA) II Yellowtail Flounder/Haddock SAP prior to leaving the dock;

(12) Seasonal restrictions for the Eastern U.S./Canada Haddock SAP;

(13) Seasonal restrictions for the CA II Yellowtail Flounder/Haddock SAP;

(14) Sampling exemption;

(15) Prohibition on combining small-mesh exempted fishery and sector trips in southern New England (SNE);

(16) Extra-large mesh requirement to target dogfish on trips excluded from ASM in SNE and Inshore GB;

(17) Requirement that Handgear A vessels carry a Vessel Monitoring System (VMS) unit when fishing in a single broad stock area; and

(18) Limits on the number of gillnets for Day gillnet vessels in the GOM.

Exemption Requests in Fishing Year 2023

For fishing year 2023, sectors did not request any novel exemptions.

Comments and Responses

We received no comments on the proposed rule.

Changes From the Proposed Rule

The 16 sector operations plans published in the proposed rule were based on sectors' submissions of initial operations plans for fishing years 2023 and 2024. NEFS 7 was approved for operation in fishing year 2022. However, NEFS 7 did not submit a final operations plan and will not operate in fishing year 2023. Therefore, the final rule approves 15 sector operations plans for fishing years 2023 and 2024.

The allocations published in the proposed rule were based on final fishing year 2022 sector rosters because we had not yet processed preliminary rosters for the 2023 fishing year. The deadline for preliminary sector roster submissions was April 3, 2023. The ACE allocated to each sector is updated in this final rule to reflect preliminary sector enrollment for fishing year 2023. ACE attributable to those permits enrolled in NEFS 7 for fishing year 2022 will be allocated to whichever sector(s) those permits enroll in for 2023, or to the common pool.

Sector ACEs published in the proposed rule were based on the New England Fishery Management Council's preferred catch limits in Framework 65. Framework 65 would set catch limits for 16 (out of 20) groundfish stocks. However, Framework 65 will not be in place by the May 1, 2023, start of the fishing year. As a result, to authorize fishing at the beginning of this fishing year, this rule implements allocations based on catch limits previously set in Frameworks 61 and 63 to the FMP. In addition, ACE is based on default specifications for the following stocks which do not already have catch limits set for fishing year 2023: GB cod; GB haddock; GOM haddock; SNE/MA yellowtail flounder; Cape Cod/GOM yellowtail flounder; American plaice; witch flounder; white hake; and pollock. The final rule for Framework 65 will include updated sector allocations for relevant stocks, and account for any changes from preliminary sector rosters if needed.

No other changes from the proposed action were made in this final rule.

Classification

NMFS is issuing this rule pursuant to section 305(d) of the Magnuson-Stevens Fishery Conservation and Management Act (Magnuson-Stevens Act). Consistent with Magnuson-Stevens Act section 305(d), this action is necessary to carry out the Northeast Multispecies FMP in accordance with the FMP's implementing regulations. These regulations require Regional Administrator approval of operations plans for sectors to receive their ACE for specific groundfish stocks. The NMFS Assistant Administrator has determined that this final rule is consistent with the Northeast Multispecies FMP, other provisions of the Magnuson-Stevens Act, and other applicable law.

There is good cause pursuant to 5 U.S.C. 553(d)(3) to waive the 30-day delay in effective date for this final rule. This action approves fishing years 2023 and 2024 operations plans for 15 groundfish sectors in the Northeast multispecies fishery and allocates ACE for fishing year 2023. This rulemaking was required to be delayed to accommodate the sector roster deadline (April 3, 2023). We must have preliminary sector rosters for the upcoming fishing year in order to allocate preliminary ACE to sectors. Sectors are prohibited from fishing without an approved operations plan and ACE allocations; as such, timely implementation is necessary to ensure that sectors may fish at the start of the 2023 fishing year on May 1, 2023. If sectors were prohibited from fishing while waiting for the rule to take effect, there would be significant disruption to the fishery along with negative economic impacts, thus undermining the intent of the rule. The approval of sector operations plans occurs annually. Industry members and other stakeholders are aware of and familiar with these proceedings and expect them to occur in a timely manner.

This final rule is exempt from review under Executive Order 12866 because it contains no implementing regulations. This final rule contains no information collection requirements under the Paperwork Reduction Act of 1995.

The Chief Counsel for Regulation of the Department of Commerce certified to the Chief Counsel for Advocacy of the Small Business Administration at the proposed rule stage that this action would not have a significant economic impact on a substantial number of small entities. No comments were received regarding this certification. In addition, the changes from the proposed rule do not affect the factual basis for the certification. The factual basis for the certification was published in the proposed rule and is not repeated here. As a result, a final regulatory flexibility analysis was not required and none was prepared.

Dated: April 25, 2023
Samuel D. Rauch, III,
Deputy Assistant Administrator for Regulatory Programs, National Marine Fisheries Service.

[FR Doc. 2023-09143 Filed 4-28-23; 8:45 am]

BILLING CODE 3510-22-P